DEPARTMENT OF DEFENSE

Office of the Secretary

[Transmittal No. 24-118]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-118, Policy Justification, and Sensitive of Technology.

Dated: January 21, 2026.
Stephanie J. Bost,
Alternate OSD Federal Register Liaison Officer, Department of Defense.

BILLING CODE 6001-FR-P

BILLING CODE 6001-FR-C

Transmittal No. 24-118

Notice of Proposed Issuance of Letter of Offer Pursuant to Section 36(b)(1) of the Arms Export Control Act, as amended

(i) Prospective Purchaser: Government of United Arab Emirates

(ii) Total Estimated Value:

Major Defense Equipment * | $0.65 billion
Other | $0.67 billion
TOTAL | $1.32 billion

Funding Source: National Funds

(iii) Description and Quantity or Quantities of Articles or Services under Consideration for Purchase:

Major Defense Equipment (MDE):

Six (6) CH-47F Block II Chinook helicopters with air-to-air refuel probe capability and extended range fuel tanks

Sixteen (16) T-55-GA-714A engines (12 installed, 4 spares)

Fourteen (14) Embedded Global Positioning System (GPS)/Inertial Navigation System (INS) (EGI) devices with M-Code (12 installed, 2 spares)

Eight (8) AN/AAR-57 Common Missile Warning Systems (CMWS) (6 installed, 2 spares)

Twenty (20) AN/ARC-231A communications security (COMSEC) radios (18 installed, 2 spares)

Twenty (20) M-240 machine guns (18 installed, 2 spares)

Non-Major Defense Equipment:

The following non-MDE items will also be included: Common Missile Warning System (CMWS) classified software; AN/APR-39A radar warning receivers; AN/AVR-2B Laser Detecting Sets (LDS); AN/ARC-220 high frequency (HF) radios; KY-100M COMSEC terminals; aircraft survivability equipment (including impulse cartridges for cable cutters and aircraft cartridges); AN/ARN-147 Very High Frequency (VHF) Omni Directional Radio Range/Instrument Landing System (VOR/ILS) receivers; WESCAM MX-15HDi electro-optical/infrared imaging systems; AN/ARN-153 Tactical Airborne Navigation System (TACAN) radios; AN/APN-209 radar altimeters; AN/APX-123A identification friend or foe (IFF) transponders; KIV-77 COMSEC IFF cryptographic appliqués; AN/PYQ-10 Simple Key Loaders; services to support the mission equipment; hardware and services required to implement partner-unique modifications; Fast Rope Insertion/Extraction Systems (FRIES); Internal Extended Range Fuel Systems (ERFS); in-flight refueling capability; firefighting equipment; ballistic armor protection systems; air worthiness support; spare and repair parts; communications equipment; personnel training and training equipment; site surveys; tool and test equipment; ground support equipment; repair and return; publications and technical documentation; Quality Assurance Team (QAT); United States (U.S.) Government and contractor engineering, technical, and logistics support services; and other related elements of logistics and program support.

(iv) Military Department: Army (AE-B-ZAR)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 12, 2025

* as defined in Section 47(6) of the Arms Export Control Act.

POLICY JUSTIFICATION

United Arab Emirates—CH-47F Chinook Helicopters

The Government of the United Arab Emirates (UAE) has requested to buy six (6) CH-47F Block II Chinook helicopters with air-to-air refuel probe capability and extended range fuel tanks; sixteen (16) T-55-GA-714A engines, (12 installed, 4 spares); fourteen (14) Embedded Global Positioning System (GPS)/Inertial Navigation System (INS) (EGI) devices with M-Code (12 installed, 2 spares); eight (8) AN/AAR-57 Common Missile Warning Systems (CMWS) (6 installed, 2 spares); twenty (20) AN/ARC-231A communications security (COMSEC) radios (18 installed, 2 spares); and twenty (20) M-240 machine guns (18 installed, 2 spares). The following non-MDE items will also be included: Common Missile Warning System (CMWS) classified software; AN/APR-39A radar warning receivers; AN/AVR-2B Laser Detecting Sets (LDS); AN/ARC-220 high frequency (HF) radios; KY-100M COMSEC terminals; aircraft survivability equipment (including impulse cartridges for cable cutters and aircraft cartridges); AN/ARN-147 Very High Frequency (VHF) Omni Directional Radio Range/Instrument Landing System (VOR/ILS) receivers; WESCAM MX-15HDi electro-optical/infrared imaging systems; AN/ARN-153 Tactical Airborne Navigation System (TACAN) radios; AN/APN-209 radar altimeters; AN/APX-123A identification friend or foe (IFF) transponders; KIV-77 COMSEC IFF cryptographic appliqués; AN/PYQ-10 Simple Key Loaders; services to support the mission equipment; hardware and services required to implement partner-unique modifications; Fast Rope Insertion/Extraction Systems (FRIES); Internal Extended Range Fuel Systems (ERFS); in-flight refueling capability; firefighting equipment; ballistic armor protection systems; air worthiness support; spare and repair parts; communications equipment; personnel training and training equipment; site surveys; tool and test equipment; ground support equipment; repair and return; publications and technical documentation; Quality Assurance Team (QAT); U.S. Government and contractor engineering, technical, and logistics support services; and other related elements of logistics and program support. The estimated total cost is $1.32 billion.

This proposed sale will support the foreign policy and national security of the U.S. by helping to improve the security of an important regional partner. The United Arab Emirates is a vital U.S. partner for political stability and economic progress in the Middle East.

The proposed sale will improve the United Arab Emirates' capability to meet current and future threats by extending its range of flight operations. The UAE will use these assets in search and rescue, disaster relief, humanitarian support, and counterterrorism operations. The United Arab Emirates will have no difficulty absorbing this equipment and services into its armed forces.

The proposed sale of this equipment and support will not alter the basic military balance in the region.

The principal contractors will be Boeing Helicopter Aircraft Company, located in Ridley Park, PA; and Honeywell Engine Company, located in Phoenix, AZ. At this time, the U.S. Government is not aware of any offset agreement proposed in connection with this potential sale. Any offset agreement will be defined in negotiations between the purchaser and the contractor.

Implementation of this sale will require an estimated two U.S. Government and eight contractor representatives to travel to the UAE for up to sixty months for equipment de-processing, fielding, system checkout, training, and technical logistics support.

There will be no adverse impact on U.S. defense readiness as a result of this proposed sale.

Transmittal No. 24-118

Notice of Proposed Issuance of Letter of Offer Pursuant to Section 36(b)(1) of the Arms Export Control Act

Annex

Item No. vii

(vii) Sensitivity of Technology:

1. The CH-47F is a heavy-lift, newly manufactured aircraft equipped with two (2) T-55-GA-714A engines. The CH-47F has the common avionics architecture system (CAAS) cockpit, which provides aircraft system, flight, mission, and communication management systems. The CAAS consists of two dual-redundant data buses and an Ethernet local area network. The CAAS includes five multifunction displays, two general purpose processor units, two control display units, and two data concentrator units. The Navigation System has two Embedded Global Positioning System (GPS)/Inertial Navigation System (INS) (EGI) devices, two Digital Advanced Flight Control Systems, one AN/ARN-147 (Very High Frequency (VHF) Omni Directional Radio Range/Instrument Landing System (VOR/ILS) marker beacon), one ARN-153 Tactical Air Navigation System (TACAN), two air data computers, and one AN/APN-209 radar altimeter system. The communications suite is as follows: two each AN/ARC-231A multi-mode radios providing VHF FM, VHF AM, ultra high frequency, HAVEQUICK II, and Demand Assigned Multiple Access satellite communications (SATCOM), and one each AN/ARC-220 high frequency radio. The identification friend or foe (IFF) will be the APX-123A, which provides the additional functionality of Mode 5. Aircraft survivability equipment will consist of the AN/AAR-57 Common Missile Warning System (CMWS) and the AN/APR-39 Radar Signal Detecting Set (RSDS).

a. The AN/AAR-57 Common Missile Warning System (CMWS) is the detection component of the suite of countermeasures designed to increase the survivability of current generation combat aircraft and special operations aircraft against infrared guided missiles.

b. The AN/ARC-231A is a software-defined radio that implements an NSA-modernized, Type 1, embedded cryptographic solution. It provides joint service standard line of sight, HAVEQUICK, and SINCGARS electronic counter-countermeasures, along with integrated waveform SATCOM.

c. The AN/APX-123A IFF transponder is a space diversity transponder and is installed on various military platforms. It provides identification, altitude, and surveillance reporting in response to interrogations from airborne, ground-based, and surface interrogators.

d. The KY-100M is a radio encryptor that has sensitive technology.

e. The AN/APR-39A Radar Signal Detecting Set provides the pilot with visual and audible warning when a hostile fire-control threat is encountered.

f. The KIV-77 is a common cryptographic appliqué for IFF that provides Mode-4 and Mode-5 capability.

g. The AN/PYQ-10 Simple Key Loader (SKL) is a ruggedized, portable, hand-held fill device used for securely receiving, storing, and transferring electronic key material and data between compatible end cryptographic units and communications equipment. It supports both the DS-101 and DS-102 interfaces, as well as the cryptographic ignition key.

h. The AN/ARC-220 is a microprocessor-based communications system employing advanced digital signal processor technology. The AN/ARC-220 provides embedded automatic link establishment, serial tone data modem, text messaging, GPS position reporting, and anti-jam electronic counter-countermeasure functions.

i. The MX-15 HDi is a multi-sensor, multi-spectral imaging system with a range of features and benefits, including long range laser illumination, that offers superior high-definition imaging resolution from Electro-Optical (EO) and Infrared (IR) cameras. The MX-15 HDi is ideal for medium-altitude covert intelligence, surveillance, and reconnaissance (ISR) and search and rescue missions, and it can be integrated into aerostat, fixed-wing, rotary-wing aircraft and unmanned aerial systems.

j. The EAGLE M+429 EGI common is a self-contained, all-altitude navigation system with an embedded GPS receiver. EAGLE M+429 Common provides Precise Positioning System (PPS) Y-code and M-code operation when loaded with NSA approved COMSEC keys via SKL.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the United Arab Emirates can provide substantially the same degree of protection for the sensitive technology being released as the U.S. Government. This sale is necessary in furtherance of the U.S. foreign policy and national security objectives outlined in the Policy Justification.

5. All defense articles and services listed in this transmittal have been authorized for release and export to the Government of the United Arab Emirates.

[FR Doc. 2026-01357 Filed 1-23-26; 8:45 am]

BILLING CODE 6001-FR-P